DEPARTMENT OF HEALTH AND HUMAN SERVICES

Administration for Children and Families

Administration for Native Americans; Notice of Meeting

AGENCY: Administration for Children and Families, Department of Health and Human Services.

ACTION: Notice of Tribal Consultation.

SUMMARY: The Department of Health and Human Services, Administration for Children and Families (ACF) will host a Tribal Consultation to consult on ACF programs and tribal priorities.

DATES: September 13, 2018.

ADDRESSES: Capital Skyline Hotel, 10 “I” (eye) Street SW, Washington, DC 20024.

FOR FURTHER INFORMATION CONTACT: Jeannie Hovland, Commissioner, Administration for Native Americans and Deputy Assistant Secretary for Native American Affairs at 202-401-5156, by email at anacommissioner@acf.hhs.gov or by mail at 330 C Street SW, MS-4126, Washington, DC 20201.

SUPPLEMENTARY INFORMATION: In accordance with the ACF Tribal Consultation Policy, ACF announces tribal consultation with tribal leaders operating ACF programs.

The consultation will be conducted with elected or appointed leaders of tribal governments and their designated representatives. Designees must have a letter from the tribal government authorizing them to represent the tribe. Tribal governments must submit the designee letter at least 3 days in advance of the consultation session to the Administration for Native Americans at anacommissioner@acf.hhs.gov. Other representatives of tribal organizations and Native non-profit organizations are welcome to attend as observers. A report of the consultation session will be prepared and made available at the following website address within 45 days after the closing of the consultation session. Tribes wishing to submit written testimony should send it to anacommissioner@acf.hhs.gov either prior to the consultation session or within 30 days after the meeting. ACF will summarize oral testimony and comments from the consultation session along with topics of concern and recommendations.

ACF has identified the following topics for consultation:

Family First Services Act

Title IV-E Planning Grants—What barriers are preventing Tribes from applying for the grant

Office of Head Start annual consultation

TANF and Welfare reform

The ACF Tribal Consultation Session will begin at 9:00 a.m. on September 13 and continue throughout the day until all discussions have been completed. To help both you and the ACF Principals prepare for this consultation, planning teleconference calls will be held:

Wednesday, August 22, 2018 @4:00 p.m.-4:30 p.m. (EST)

Thursday, August 23, 2018 @4:00 p.m.-4:30 p.m. (EST)

Tuesday, August 28, 2018 @4:00 p.m.-4:30 p.m. (EST)

The call-in number and passcode are: 866-769-9393 passcode: 4449449#.

The purpose of the planning calls will be to identify individuals who will provide oral testimony to ACF, solicit for tribal moderators and identify specific topics of interest so we can ensure that all appropriate individuals are present.

For any tribe unable to attend in person, ACF will provide a webinar link, Please contact our 1-877-922-9ANA (1-877-922-9262) for the webinar information.

We have set up a registration for all participants whether attending in person or by webinar. The registration address is: www.regonline.com/2018acftribalconsultation. If you plan on providing testimony, please include the name of the office(s) you wish to address.

Jeannie Hovland,
Deputy Assistant Secretary for Native American Affairs.

[FR Doc. 2018-18113 Filed 8-21-18; 8:45 am]

BILLING CODE 4184-34-P